DEPARTMENT OF COMMERCE

International Trade Administration

[Docket No. ITA-2021-0004]

Healthcare Services Sector Export Market Landscape

AGENCY: International Trade Administration, U.S. Department of Commerce.

ACTION: Notice of request for public comments.

SUMMARY: The U.S. Department of Commerce (Commerce) seeks to support U.S. private-sector businesses and organizations engaged in export activities. As technologies and global needs evolve, Commerce must stay apprised of trends and changes to provide effective support to the private sector. Additionally, knowledge of challenges and gaps in support provided is critical to strengthening the United States' export potential. This notice is a general solicitation of comments from the public to assist Commerce's International Trade Administration (ITA) in gaining a better understanding from the public about the current state of, and future prospects for, the healthcare services sector in international markets.

DATES: Comments will be considered on a rolling basis but are due no later than 5 p.m. Eastern Time on November 8, 2021.

ADDRESSES: You may submit comments, identified by ITA-2021-0004, by either of the following methods:

• Online Submission (Strongly Preferred): Submit all electronic public comments via the Federal e-Rulemaking Portal. Go to https://www.regulations.gov and enter ITA-2021-0004 in the Search box. Click on the “Comment” icon, complete the required fields, and enter or attach your comments.

• Email: healthcareservices@trade.gov. Comments submitted by email should be machine-readable and should not be copy-protected.

Due to COVID-19 building closures, we are temporarily not accepting comments by mail. However, if you are unable to comment via regulations.gov, you may contact healthcareservices@trade.gov for instructions on submitting your comment.

Comments sent by any other method, to any other address or individual, or received after the end of the comment period may not be considered by ITA. All comments received are a part of the public record and will generally be posted for public viewing on http://www.regulations.gov/ITA-2021-0004 without change. For access to the docket to read background documents or comments received, go to http://www.regulations.gov/ITA-2021-0004.

All submissions received must include the agency name and docket number for this notice. Commenters should include the name of the person or organization filing the comment. All personal identifying information (for example, name, address) voluntarily submitted by the commenter may be publicly accessible. ITA will not accept anonymous comments.

For those seeking to submit confidential business information (CBI) for Government use only, please clearly mark such submissions as CBI and submit an accompanying redacted version to be made public. CBI comments can be submitted either through http://www.regulations.gov/ITA-2021-0004 (strongly preferred) or by email.

FOR FURTHER INFORMATION CONTACT: Karen Grunstra, International Trade Administration, at healthcareservices@trade.gov or (202) 482-4431. Please direct media inquiries to ITA's Office of Public Affairs (202) 482-3809 or publicaffairs@trade.gov.

SUPPLEMENTARY INFORMATION:

Background: ITA's export promotion programs play a critical role in addressing challenges and filling gaps in currently offered services. As market conditions constantly change and challenges for U.S. exporters evolve, it is important to gather additional information. The information solicited by this notice will be used in support of ITA's core mission to create prosperity by strengthening the international competitiveness of U.S. industry, promoting trade and investment, and ensuring fair trade and compliance with trade laws and agreements. This mission arises from the authority of the Secretary of Commerce to “foster, promote, and develop the foreign and domestic commerce of the United States” pursuant to 15 U.S.C. 1512, and to “draw the attention of private enterprises to opportunities for investment and development . . .” around the world pursuant to the Foreign Assistance Act of 1961 and Executive Order 12163, dated September 29, 1979. To help develop its priorities and ensure coordination among its programs, ITA is seeking information on international healthcare services market strengths and growth potential, as well as policy and regulatory challenges in the healthcare services sector, including but not limited to the following elements.

Scope: Healthcare services is a broad term that can encompass a range of solutions used to address a variety of healthcare issues. For the purpose of this request for public comment, ITA is focused on both established and emerging services that are being used to address and treat various healthcare needs in different international markets. This notice serves as a general solicitation for public comment and as an initial step in improving ITA's understanding of the current services exports landscape. The information sought can be organized into the following broad categories:

(1) Current global market conditions in regard to healthcare services;

(2) Related needs for healthcare services exports that affect success in international markets;

(3) The effectiveness of the assistance ITA already offers and ideas for activities not currently offered.

Request for Written Comments

Instructions: This notice is a general solicitation for public comments and further sets forth topics for discussion and comment. ITA seeks broad input from all interested stakeholders—including U.S. industry, researchers, academia, and civil society—on the international healthcare services sector. Commenters may provide information related to any or all of the following, or to any other aspect of the healthcare services sector that they consider relevant. To the extent commenters choose to respond to the specific questions asked, responses may be formatted as the commenter prefers.

A. Prospects for the Provision of International Healthcare Services

1. With respect to healthcare services and healthcare services technology outside of the United States:

a. Which markets present the greatest potential for growth in healthcare services exports, and what services or enabling technologies are most in demand in these markets?

b. Which countries offer the most competition in the sector, and in which services or enabling technologies?

c. What trade barriers exist, and what regulatory, standards, or other market condition changes would be most significant in facilitating U.S. healthcare services exports?

d. How are healthcare services sold in international markets, e.g., through government procurement, directly to medical professionals, directly to private consumers, etc.?

B. Complementary Needs

1. When examining which international export markets to enter, please explain the importance of the following:

a. How do local licensing requirements and/or other certifications affect the ability to operate in various international markets?

b. How important is the education/training of international personnel to success in exporting healthcare services and why?

c. When entering a market, how do exporters find local representatives and employees (i.e., doctors, nurses, trained project managers, etc.), and how dependent are service offerings on finding suitable local partners?

C. ITA Support

1. To what extent would the following ITA activities assist exporters of healthcare services:

a. How would ITA's collaboration directly with foreign governments to improve market preconditions and address market-specific challenges be useful?

b. How would ITA's implementation of U.S. export promotion activities, including those already offered such as trade missions or match-making activities, be useful?

c. What activities not currently offered would be helpful to U.S. exporters?

Monica Gorman,
Deputy Assistant Secretary, Manufacturing, Industry & Analysis, International Trade Administration.

[FR Doc. 2021-20444 Filed 9-21-21; 8:45 am]

BILLING CODE 3510-DR-P